DEPARTMENT OF AGRICULTURE

Animal and Plant Health Inspection Service

[Docket No. APHIS-2011-0092]

Importation of Plants for Planting; Risk-Based Sampling and Inspection Approach and Propagative Monitoring and Release Program

AGENCY: Animal and Plant Health Inspection Service, USDA.

ACTION: Notice.

SUMMARY: We are advising the public of our decision to implement a risk-based sampling approach for the inspection of imported plants for planting. In our previous approach, we inspected 2 percent of consignments of imported plants for planting regardless of previous evidence of the risk posed by the plants for planting. The risk-based sampling and inspection approach will allow us to target high-risk plants for planting for more extensive inspection to help ensure that plants for planting infested with quarantine pests do not enter the United States, while providing a speedier inspection process for lower-risk plants for planting. In addition, for taxa of plants for planting that pose an extremely low risk, we are establishing a Propagative Monitoring and Release Program under which consignments of those taxa will be periodically monitored but not every consignment will be inspected.

FOR FURTHER INFORMATION CONTACT: Mr. Gordon Muraoka, National Plant Inspection Station Coordinator, PPQ, APHIS, 4700 River Road Unit 133, Riverdale, MD 20737; (301) 734-0932; or Dr. Mary Palm, Senior Mycologist and Lab Director, National Identification Services, Molecular Diagnostic Lab, PPQ, APHIS, B-580, BARC-East, Powder Mill Road, Beltsville, MD 20705; (301) 504-7154.

SUPPLEMENTARY INFORMATION: The regulations in 7 CFR part 319 prohibit or restrict the importation of certain plants and plant products into the United States to prevent the introduction of plant pests that are not already established in the United States or plant pests that may be established but are under official control to eradicate or contain them within the United States.

The regulations in “Subpart—Plants for Planting,” §§ 319.37 through 319.37-14 (referred to below as the regulations), restrict the importation of plants for planting. Plants for planting is defined in § 319.37-1 as plants intended to remain planted, to be planted or replanted. The definition of plant in that section includes any plant (including any plant part) for or capable of propagation, including a tree, a tissue culture, a plantlet culture, pollen, a shrub, a vine, a cutting, a graft, a scion, a bud, a bulb, a root, and a seed.

All plants for planting imported into the United States must be presented for inspection. Inspectors examine the plants for planting to determine whether they show any visual evidence of being infested with quarantine pests or infected with quarantine pathogens. After inspection, the plants may be allowed entry into the United States (with treatment, if necessary), destroyed, or reexported, depending on the results of the inspection.

Plants for planting that are required to be imported under a written permit under § 319.37-3(a)(1) through (a)(6) and that are not from Canada must be imported or offered for importation at a U.S. Department of Agriculture (USDA) plant inspection station. Under § 319.37-3(a)(5), lots of 13 or more articles (other than seeds, bulbs, or sterile cultures of orchid plants) from any country or locality except Canada may be imported into the United States only after issuance of a written permit. Therefore, most consignments of plants for planting must be imported or offered for importation at a USDA plant inspection station. Such stations are listed in § 319.37-14. Plants for planting that are offered for inspection at a USDA plant inspection station are inspected by Plant Protection and Quarantine (PPQ) inspectors.

This notice announces our decision to standardize our approach to sampling and inspecting consignments of plants for planting offered for importation at USDA plant inspection stations based on the pest risk presented by the plants for plant for planting.

To this point, PPQ inspectors have inspected a minimum of 2 percent of every consignment of plants for planting presented for inspection. We have assessed our sampling and inspection methods and found that we can use our resources more effectively by targeting our efforts towards plants for planting that are known to present a higher risk, based on past inspection results for those plants for planting. Such an approach would be consistent with International Standard for Phytosanitary Measures (ISPM) #31, “Methodologies for Sampling of Consignments.” ¹

¹ ISPMs are developed under the auspices of the International Plant Protection Convention, to which the United States is a signatory. To view this and other ISPMs on the Internet, go to http://www.ippc.int/ and click on the “Adopted Standards” link under the “Core activities” heading.

Therefore, we are standardizing our sampling and inspection approach to adjust the intensity of our inspection of imported plants for planting based on the risk they present of introducing quarantine pests into the United States. We will evaluate the risk associated with combinations of taxa of plants for planting and countries from which they are exported and assign risk ratings to those articles.

Plants for planting determined to present an extremely low risk will be inspected under the Propagative Monitoring and Release Program (PMRP). Taxa of plants for planting included in this program will be periodically monitored at plant inspection stations. Not every consignment of plants for planting included in the PRMP will be inspected, but those consignments that are inspected will be inspected at normal levels to confirm the plants' continued eligibility for the PMRP.

Subsequently, we will also implement a risk-based sampling plan for all other plants for planting. We will implement this approach initially by considering all taxa of plants for planting to be high risk. All plants for planting will be sampled at high risk rates until we have gathered sufficient data to establish that the plants for planting present a medium or low risk.

If a taxon of plants for planting from a certain country is determined to present a medium or low risk, it will be sampled at the plant inspection stations at a less intensive rate than high-risk plants for planting. We will continue to sample some consignments of the taxon at higher rates to monitor whether the taxon should still be considered to be medium or low risk. We will update our categorizations of taxa regularly in response to data from all inspections. This approach will allow us to target our resources towards taxa of plants for planting that pose the greatest risk and thus to provide greater security against the introduction of quarantine pests into the United States.

For importers of plants for planting, this approach may increase or decrease inspection time at the plant inspection station, depending on the risk level of the material. We believe this new sampling and inspection approach will result in increased effectiveness and that the difference in inspection time will be an incentive for importers to present high-quality, pest-free plants for planting for inspection at plant inspection stations.

We plan to implement the PMRP on October 17, 2011. The risk-based sampling will be implemented following further analysis of the sampling protocol.

Done in Washington, DC, this 14th day of October 2011.
Kevin Shea,
Acting Administrator, Animal and Plant Health Inspection Service.

[FR Doc. 2011-27173 Filed 10-19-11; 8:45 am]

BILLING CODE 3410-34-P